DEPARTMENT OF COMMERCE

International Trade Administration

[C-570-968]

Aluminum Extrusions From the People's Republic of China: Final Results, and Partial Rescission of Countervailing Duty Administrative Review; 2013

AGENCY: Enforcement and Compliance, International Trade Administration, Department of Commerce.

SUMMARY: The Department of Commerce (the Department) completed its administrative review of the countervailing duty order ¹ (CVD) on aluminum extrusions from the People's Republic of China (PRC) for the January 1, 2013, through December 31, 2013 period of review (POR). We determined that the Guang Ya Group ² and the Jangho Companies ³ (mandatory respondents) received countervailable subsidies during the POR. The final net subsidy rates are listed below in “Final Results of Administrative Review.”

¹ See Aluminum Extrusions from the People's Republic of China: Countervailing Duty Order, 76 FR 30653 (May 26, 2011) (Order).

² For purposes of this administrative review, the Guang Ya Group includes Guang Ya Aluminium Industries Co. Ltd.; Foshan Guangcheng Aluminium Co., Ltd.; and Yonghi Guanghai Aluminium Industry Co., Ltd. Also, these companies submitted responses on the record of this review clarifying the usage of “Aluminium” in its name, rather than “Aluminum,” the form on which we both received a request for review and/or on which we initiated this review.

³ For purposes of this administrative review, the Jangho companies includes Guangzhou Jangho Curtain Wall System Engineering Co., Ltd., (Guangzhou Jangho); Jangho Group Co., Ltd. (Jangho Group Co.); Beijing Jiangheyuan Holding Co., Ltd (Beijing Jiangheyuan); Beijing Jangho Curtain Wall System Engineering Co., Ltd. (Beijing Jangho); and Shanghai Jangho Curtain Wall System Engineering Co., Ltd., (Shanghai Jangho).

DATES: Effective date: December 14, 2015.

FOR FURTHER INFORMATION CONTACT: Davina Friedmann, Tyler Weinhold or Robert James, AD/CVD Operations, Office VI, Enforcement and Compliance, International Trade Administration, U.S. Department of Commerce, 14th Street and Constitution Avenue NW., Washington, DC 20230; telephone: (202) 482-0698, (202) 482-1121 or (202) 482-0649, respectively.

SUPPLEMENTARY INFORMATION:

Background

On June 9, 2015, the Department published the Preliminary Results of this administrative review.⁴ On October 7, 2015, the Department extended the final results of this administrative review until December 7, 2015. On October 27, 2015, the Department issued its post-preliminary results of review.⁵ The Department invited interested parties to comment on both the Preliminary Results and Post-Preliminary Analysis and received case and rebuttal briefs from several parties.⁶ There were no requests from interested parties to conduct a hearing.

⁴ See Aluminum Extrusions from the People's Republic of China: Preliminary Results, Preliminary Intent To Rescind, in Part, and Partial Rescission of Countervailing Duty Administrative Review; 2013, 80 FR 32528, dated June 9, 2015 (Preliminary Results).

⁵ See Memorandum from Scot Fullerton through Christian Marsh to Paul Piquado re: “Post-Preliminary Analysis Memorandum in the 2013 Countervailing Duty Administrative Review; Aluminum Extrusions from the People's Republic of China,” dated October 27, 2015 (Post-Preliminary Analysis).

⁶ For additional case history for this administrative review, see accompanying Decision Memorandum for the Final Results of the Countervailing Duty Administrative Review; Aluminum Extrusions from the People's Republic of China, dated concurrently with this notice (Issues and Decision Memorandum).

Scope of the Order

The merchandise covered by the Order is aluminum extrusions which are shapes and forms, produced by an extrusion process, made from aluminum alloys having metallic elements corresponding to the alloy series designations published by The Aluminum Association commencing with the numbers 1, 3, and 6 (or proprietary equivalents or other certifying body equivalents).⁷

⁷ See Issues and Decision Memorandum for a complete description of the scope of the Order.

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8515.90.20.00, 8516.90.50.00, 8516.90.80.50, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.

Analysis of Comments Received

All issues raised in the parties' briefs are addressed in the Issues and Decision Memorandum, dated concurrently with this notice, and which is hereby adopted by this notice. A list of the issues raised is attached to this notice at Appendix I.⁸ The Issues and Decision Memorandum is a public document and is on file electronically via Enforcement and Compliance's Antidumping and Countervailing Duty Centralized Electronic Service System (ACCESS). ACCESS is available to registered users at http://access.trade.gov; the Issues and Decision Memorandum is available to all parties in the Central Records Unit (CRU), Room B8024 of the main Department of Commerce building. In addition, a complete version of the Issues and Decision Memorandum can be accessed directly at http://enforcement.trade.gov/frn/. The signed and electronic versions of the Issues and Decision Memorandum are identical in content.

⁸ See Memoradum from Christian Marsh, Deputy Assistant Secretary for Antidumping and Countervailing Duty Operations to Paul Piquado Assistant Secretary for Enforcement and Compliance regarding: “Decision Memorandum for the Final Results of Countervailing Duty Administrative Review: Aluminum Extrusions from the People's Republic of China, 2013 (Third Review),” December 7, 2015 (Issues and Decision Memorandum).

Methodology

The Department conducted this review in accordance with section 751(a)(1)(A) of the Tariff Act of 1930, as amended (the Act). For each of the subsidy programs found countervailable, we find that there is a subsidy, i.e., a government-provided financial contribution that gives rise to a benefit to the recipient, and that the subsidy is specific.⁹ For a full description of the methodology underlying all of the Department's conclusions, including our reliance, in part, on adverse facts available pursuant to sections 776(a) and (b) of the Act, see the Issues and Decision Memorandum.

⁹ See sections 771(5)(B) and (D) of the Act regarding financial contribution; section 771(5)(E) of the Act regarding benefit; and section 771(5A) of the Act regarding specificity.

Partial Rescission of Review

For those companies named in the Initiation Notice ¹⁰ for which all review requests have been timely withdrawn, we are rescinding this administrative review in accordance with 19 CFR 351.213(d)(1). These companies are listed at Appendix II to this notice. For these companies, countervailing duties shall be assessed at rates equal to the rates of the cash deposits for estimated countervailing duties required at the time of entry, or withdrawal from warehouse, for consumption, during the POR, in accordance with 19 CFR 351.212(c)(2).

¹⁰ See Initiation of Antidumping and Countervailing Duty Administrative Reviews, 79 FR 36462 (June 27, 2014) (Initiation Notice).

Also, between August 1, 2014 and September 5, 2014, the Department received timely no-shipment certifications from certain companies. The Department confirmed with U.S. Customs and Border Protection (CBP) that these companies did not ship merchandise to the United States during this review period.¹¹ However, these no-shipment companies were also included in the Petitioner's timely withdrawal request, and because no party other than the Petitioner requested a review of the no-shipment companies, the Department is rescinding the administrative review of these companies pursuant to 19 CFR 351.213(d)(1).

¹¹ On August 27, 2015, the Department issued the requisite “no-shipments” message to CBP inquiring whether certain companies shipped merchandise to the United States during the instant review period, which was subsequently confirmed by CBP. See public message number 5239314.

Rate for Non-Selected Companies Under Review

There are 38 companies for which a review was requested and not rescinded, but were not selected as mandatory respondents. For these companies, we calculated the non-selected rate using a methodology of weight-averaging the rates of the Guang Ya Group and Jangho Group based on their publicly-ranged sales data for the POR because basing a weighted-average on their proprietary sales data for the POR risks disclosure of proprietary information. For further information on the calculation of the non-selected rate, refer to the section in the Issues and Decision Memorandum entitled, “Final Ad Valorem Rate for Non-Selected Companies Under Review.”

For those companies that failed to respond to the Department's quantity and value questionnaire, we have relied on facts available, determined that those companies are non-cooperative and, on that basis, found that the application of adverse facts available is warranted in determining the net countervailable subsidy rate for those companies. For further discussion of this determination, refer to the section in the Issues and Decision Memorandum entitled, “Use of Facts Otherwise Available and Adverse Inferences.”

Final Results of Administrative Review

In accordance with 19 CFR 351.221(b)(5), we determine the following final net subsidy rates for the 2013 administrative review:

Company | 2013 Ad valorem rate (percent)
Guang Ya Group ¹² | 3.59
Jangho Companies ¹³ | 64.14
Dynamic Technologies China Ltd | 222.82
Foreign Trade Co. of Suzhou New & High Tech Industrial Development Zone | 222.82
Foshan Shunde Aoneng Electrical Appliances Co., Ltd | 222.82
Golden Dragon Precise Copper Tube Group | 222.82
WTI Building Products, Ltd | 222.82
Zhaoqing Asia Aluminum Factory Company Ltd | 222.82
Allied Maker Limited | 61.36
Alnan Aluminum Co. Ltd | 61.36
Barcalente Metal Producers (Suzhou) Co. Ltd | 61.36
Changzhou Changzheng Evaporator Co., Ltd | 61.36
Classic & Contemporary Inc | 61.36
Danfoss Micro Channel Heat Exchanger (Jia Xing) Co. Ltd | 61.36
Dongguan Golden Tiger Hardware Industrial Co., Ltd | 61.36
Ever Extend Ent. Ltd | 61.36
Fenghua Metal Product Factory | 61.36
Guandong JMA Aluminum Profile (Group) Co., Ltd | 61.36
Guangdong Whirlpool Electrical Appliances Co. Ltd | 61.36
Guangdong Zhongya Aluminum Company Limited | 61.36
Hanyung Alcobis Co., Ltd | 61.36
Hangyung Metal (Suzhou) Co., Ltd | 61.36
Henan New Kelong Electrical Appliances, Co., Ltd | 61.36
IDEX Dinglee Technology (Tianjin) Co., Ltd | 61.36
IDEX Technology Suzhou Co., Ltd | 61.36
Jiangsu Susun Group (HK) Co., Ltd | 61.36
Justhere Co., Ltd | 61.36
Kromet International Inc | 61.36
Metaltek Group Co. Ltd | 61.36
North Fenghua Aluminum Limited | 61.36
Nidec Sankyo Singapore Pte. Ltd | 61.36
Nanhai Textiles Import & Export Co., Ltd | 61.36
Permasteelisa Hong Kong Ltd | 61.36
Permasteelisa South China Factory | 61.36
Sapa Profiles (Shanghai) Co., Ltd | 61.36
Shanghai Tongtai Precise Aluminum Alloy Manufacturing Co., Ltd | 61.36
Shenyang Yuanda Aluminum Industry Engineering Co., Ltd | 61.36
Taishan City Kam Kiu Aluminum Extrusion Co., Ltd | 61.36
Taizhou United Imp & Exp Co Ltd | 61.36
tenKsolar (Shanghai) Co., Ltd | 61.36
Union Industry (Asia) Co., Limited | 61.36
Whirlpool Microwave Products Development Ltd | 61.36
Zhejiang Dongfeng Refrigeration Components Co. Ltd | 61.36
Zhongya Shaped Aluminum (HK) Holding Limited | 61.36
Zhongshan Daya Hardware Co., Ltd | 61.36
Zhaoqing New Zhongya Aluminum Co., Ltd | 61.36

Assessment Rates

¹² See Footnote 2.

¹³ See Footnote 3.

The Department intends to issue appropriate assessment instructions directly to CBP 15 days after publication of these final results of review, to liquidate shipments of subject merchandise entered, or withdrawn from warehouse, for consumption on or after January 1, 2013, through December 31, 2013, at the ad valorem rates listed above.

Cash Deposit Requirements

The Department also intends to instruct CBP to collect cash deposits of estimated countervailing duties in the amounts indicated above for each company listed on shipments of subject merchandise entered, or withdrawn from warehouse, for consumption on or after the date of publication of the final results of this administrative review. For all non-reviewed firms, we will instruct CBP to collect cash deposits of estimated countervailing duties at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: December 7, 2015.
Paul Piquado,
Assistant Secretary for Enforcement and Compliance.

Appendix I

List of Topics Discussed in the Final Decision Memorandum

Summary

List of Comments

Scope of the Order

Partial Rescission of Review

Subsidies Valuation Information

Loan Benchmark Rates

Use of Facts Otherwise Available and Adverse Inferences

Analysis of Programs

Programs Determined Not to Confer Measurable Benefit or Not Used

Ad Valorem Rate for Non-Selected Companies Under Review

Ad Valorem Rate for Non-Cooperative Companies Under Review

Analysis of Comments

Comment 1: Whether the Jangho Companies' Products are Subject to the Scope of the Order

Comment 2: Whether the Department Should Instruct CBP to Lift Suspension and Not Assess Duties Prior to the Date of Initiation of the Relevant Scope Ruling on Curtain Wall Units

Comment 3: Whether the GOC Provided Policy Loans to the Jangho Companies and GYG

Comment 4: Whether the Department's Benchmark Interest Rates are Arbitrary, Unsupported by Record Evidence, or Unlawful

Comment 5: Whether Preferential Tax Policies for High or New Technology Enterprises (HTNEs) Program is Specific

Comment 6: Whether Tax Offsets for Research and Development (R&D) Program is Specific

Comment 7: Alleged Ministerial Error in the Jangho Companies' Overall and Additional Subsidy Margin Calculations

Comment 8: Whether The Department May Countervail Provision of Glass for LTAR; Whether Glass is, Properly, an Input of the Subject Merchandise

Comment 9: Whether The Department May Countervail Provision of Aluminum Extrusions for LTAR; Whether Aluminum Extrusions are, Properly, Inputs of the Subject Merchandise

Comment 10: Whether the Department Should Include the Subsidy Rates for Glass and Aluminum Extrusions for LTAR Programs in the Rates for Non-Selected Companies

Comment 11: Whether the Jangho Companies' Glass and Aluminum Extrusions Producers and Suppliers and GYG's Primary Aluminum Producers and Suppliers are “Authorities”

Comment 12: Whether Specificity Exists for Primary Aluminum for LTAR, Glass for LTAR and Aluminum Extrusions for LTAR

Comment 13: Whether the Department may use a “tier two” Benchmark for Primary Aluminum for LTAR, Aluminum Extrusions for LTAR, and Glass for LTAR

Comment 14: Whether the Department Made a Ministerial Error in the Calculation of Benefits for the Aluminum Extrusions for LTAR and Glass for LTAR Programs.

Comment 15: Whether the Department Should Calculate Subsidies on Two Programs for Which It Sought Additional Information After Issuance of the Preliminary Results

Comment 16: Whether the Department Made a Ministerial Error in the Policy Lending Calculation for GYG

Comment 17: Whether the Department Should Allocate Benefits from GYG's Famous Brands Program over 2013 Sales

Comment 18: Whether the Department Should Countervail Non-Recurring Subsidies Received Prior to January 1, 2005

Comment 19: Whether TenKSolar Shanghai Should Receive the Cooperative Rate for Non-Selected Respondents

Comment 20: Whether the Department Should Use Aluminum Billet Purchases by Guang Ya in the Benchmark Calculation of Primary Aluminum for LTAR

Comment 21: Whether the Department Erred in Calculating the Benchmark for Primary Aluminum

Conclusion

Appendix II

List of Companies on Which We Are Rescinding This Administrative Review ¹⁴

¹⁴ One company on which the review was initiated, tenKsolar Inc., provided a certified submission of its role as a U.S. importer located within the United States. See Letter from tenKSolar (Shanghai) Co., Ltd. regarding, “Aluminum Extrusions from the People's Republic of China—Quantity and Value Questionnaire Response,” dated September 4, 2014. Because tenKsolar is a U.S. importer, we are rescinding the review of this entity.

1. Acro Import and Export Co.

2. Activa International Inc.

3. Aluminicaste Fundicion de Mexico

4. Changshu Changshen Aluminum Products Co., Ltd.

5. Changzhou Tenglong Auto Parts Co., Ltd.

6. China Zhongwang Holdings, Ltd.

7. Chiping One Stop Industrial & Trade Co., Ltd.

8. Clear Sky Inc.

9. Cosco (J.M.) Aluminum Co., Ltd.

10. Dongguan Aoda Aluminum Co., Ltd.¹⁵

¹⁵ Petitioner requested a review of Dongguang Aoda Aluminum Co., Ltd. See Letter from the Aluminum Extrusions Fair Trade Committee regarding, “Aluminum Extrusions from the People's Republic of China: Request for Administrative Review,” dated June 2, 2014. However, in the Department's initiation notice, this company's name was spelled Dongguan Aoda Aluminum Co., Ltd. Accordingly, this notice serves as a correction to the spelling of this company's name.

11. Dragonluxe Limited

12. Dynabright International Group (HK) Limited

13. First Union Property Limited

14. Foshan City Nanhai Hongjia Aluminum alloy Co., Ltd.

15. Foshan Jinlan Aluminum Co. Ltd.

16. Foshan JMA Aluminum Company Limited

17. Foshan Shanshui Fenglu Aluminum Co., Ltd.

18. Foshan Yong Li Jian Alu. Ltd.

19. Fujian Sanchuan Aluminum Co., Ltd.

20. Global PMX Dongguan Co., Ltd.

21. Global Point Technology (Far East) Limited

22. Gold Mountain International Development, Ltd.

23. Gran Cabrio Capital Pte. Ltd.

24. Gree Electric Appliances

25. GT88 Capital Pte. Ltd.

26. Guangdong Hao Mei Aluminum Co., Ltd.

27. Guangdong Jianmei Aluminum Profile Company Limited

28. Guangdong Nanhai Foodstuffs Imp. & Exp. Co., Ltd.

29. Guangdong Weiye Aluminum Factory Co., Ltd.

30. Guangdong Xingfa Aluminum Co., Ltd.

31. Guangdong Xin Wei Aluminum Products Co., Ltd.

32. Guangdong Yonglijian Aluminum Co., Ltd

33. Hangzhou Xingyi Metal Products Co., Ltd.

34. Hanwood Enterprises Limited

35. Hao Mei Aluminum Co., Ltd.

36. Hao Mei Aluminum International Co., Ltd.

37. Hong Kong Gree Electric Appliances Sales Limited

38. Honsense Development Company

39. Hui Mei Gao Aluminum Foshan Co., Ltd.

40. Idex Health

41. Innovative Aluminum (Hong Kong) Limited

44. iSource Asia

45. Jiangmen Qunxing Hardware Diecasting Co., Ltd.

46. Jiangsu Changfa Refrigeration Co., Ltd.

47. Jiangyin Trust International Inc

48. Jiangyin Xinhong Doors and Windows Co., Ltd.

49. Jiaxing Jackson Travel Products Co., Ltd.

50. Jiaxing Taixin Metal Products Co., Ltd.

51. Jiuyan Co., Ltd.

52. JMA (HK) Company Limited

53. Kam Kiu Aluminum Products Sdn Bhd

54. Kanal Precision Aluminum Product Co., Ltd.

55. Karlton Aluminum Company Ltd.

56. Kunshan Giant Light Metal Technology Co., Ltd.

57. Liaoning Zhongwang Group Co., Ltd.

58. Liaoyang Zhongwang Aluminum Profiled Co. Ltd.

59. Longkou Donghai Trade Co., Ltd.

60. Massoud & Bros. Co., Ltd.

61. Metaltek Metal Industry Co., Ltd.

62. Midea Air Conditioning Equipment Co., Ltd.

63. Midea International Trading Co., Ltd./Midea International Trading Co., Ltd.

64. Miland Luck Limited

65. New Asia Aluminum & Stainless Steel Product Co., Ltd.

66. Nidec Sankyo (Zhejiang) Corporation

67. Ningbo Coaster International Co., Ltd.

68. Ningbo Hi Tech Reliable Manufacturing Company

69. Ningbo Lakeside Machiery Factory ¹⁶

¹⁶ Homax Group Inc. (Homax) requested a review of Ningbo Lakeside Machinery Factory. See Letter from the Homax regarding, “Aluminum Extrusions from the People's Republic of China: Request for Third Administrative Review of Countervailing Duty Order,” dated May 30, 2014. However, in the Department's initiation notice, this company's name was spelled Ningbo Lakeside Machiery Factory. Accordingly, this notice serves as a correction to the spelling of this company's name.

70. Ningbo Minmetals & Machinery Imp. & Exp. Corp.

71. Ningbo Yili Import and Export Co., Ltd.

72. North China Aluminum Co., Ltd.

73. Northern States Metals

74. PanAsia Aluminum (China) Limited

75. Pengcheng Aluminum Enterprise Inc.

76. Pingguo Aluminum Company Limited

77. Pingguo Asia Aluminum Co., Ltd.

78. Popular Plastics Company Limited

79. Press Metal International Ltd

80. Samuel, Son & Co., Ltd.

81. Sanchuan Aluminum Co., Ltd.

82. Shangdong Huasheng Pesticide Machinery Co.

83. Shangdong Nanshan Aluminum Co., Ltd.

84. Shanghai Automobile Air Conditioner Accessories Ltd.

85. Shanghai Canghai Aluminum Tube Packaging Co., Ltd

86. Shanghai Dongsheng Metal

87. Shanghai Shen Hang Imp & Exp Co., Ltd.

88. Shenzhen Hudson Technology Development Co., Ltd.

89. Shenzhen Jiuyuan Co., Ltd.

90. Sihui Shi Guo Yao Aluminum Co., Ltd.

91. Sincere Profit Limited

92. Skyline Exhibit Systems (Shanghai) Co., Ltd.

93. Suzhou JRP Import & Export Co., Ltd.

94. Suzhou New Hongji Precesion Part Co

95. Tai-Ao Aluminum (Taishan) Co. Ltd.

96. Taizhou Lifeng Manufacturing Corporation

97. tenKsolar, Inc.

98. Taogoasei America Inc./Toagoasei America Inc.

99. Tianjin Ganglv Nonferrous Metal Materials Co., Ltd.

100. Tianjin Jinmao Import & Export Corp., Ltd.

101. Tianjin Ruxin Electric Heat Transmission Technology Co., Ltd.

102. Tianjin Xiandai Plastic & Aluminum Products Co., Ltd.

103. Tiazhou Lifeng Manufacturing Corporation/Taizhou Lifeng Manufacturing Corporation, Ltd.

104. Top-Wok Metal Co., Ltd.

105. Traffic Brick Network, LLC

106. USA Worldwide Door Components (Pinghu) Co., Ltd.

107. Wenzhou Shengbo Decoration & Hardware

108. Whirlpool (Guangdong)

109. Xin Wei Aluminum Company Limited

110. Xinya Aluminum & Stainless Steel Product Co., Ltd.

111. Zhejiang Anji Xinxiang Aluminum Co., Ltd.

112. Zhejiang Yongkang Listar Aluminum Industry Co., Ltd.

113. Zhejiang Zhengte Group Co., Ltd.

114. Zhenjiang Xinlong Group Co., Ltd.

115. Zhongshan Gold Mountain Aluminum Factory Ltd.

116. Zhuhai Runxingtai Electrical Equipment Co., Ltd.

[FR Doc. 2015-31425 Filed 12-11-15; 8:45 am]

BILLING CODE 3510-DS-P